DEPARTMENT OF INTERIOR

U.S. Fish and Wildlife Service

DEPARTMENT OF COMMERCE

National Oceanic and Atmospheric Administration, National Marine Fisheries Service

[I.D. 041205C]

Notice of Intent to Conduct Public Scoping Meetings and to Prepare an Environmental Impact Statement Related to the Elliott State Forest Habitat Conservation Plan; Correction

AGENCIES: Fish and Wildlife Service (FWS), Interior; National Marine Fisheries Service (NMFS), National Oceanic and Atmospheric Administration, Commerce.

ACTION: Notice of intent, to conduct scoping meetings; Correction.

SUMMARY: The U.S. Fish and Wildlife Service and National Marine Fisheries Service (NMFS) published a document in the Federal Register on May 9, 2005, with an incorrect date for submitting written comments. The document advised interested parties of their intent to conduct public scoping under the National Environmental Policy Act (NEPA) necessary to gather information to prepare an Environmental Impact Statement (EIS) on an anticipated permit application from the Oregon Division of Forestry (ODF) submitted under of the Endangered Species Act (ESA) for the incidental take of listed species, associated with the Elliott State Forest Habitat Conservation Plan (HCP) in Oregon.

DATES: See SUPPLEMENTARY INFORMATION under the heading Correction regarding the corrected date for submission of comments.

ADDRESSES: All comments concerning the preparation of the EIS and the NEPA process should be addressed to: Lee Folliard, FWS, 2600 SE 98th Avenue, Suite 100, Portland, OR 97266, facsimile: (503) 231-6195; or Chuck Wheeler, NMFS, 2900 NW Stewart Parkway, Roseberg, OR 97470-1274, facsimile: (541) 957-3386.

Comments may also be submitted by e-mail to the following address: ElliottStateForest.nwr@noaa.gov. In the subject line of the e-mail, include the document identifier: Elliott State Forest HCP. Comments and materials received will be available for public inspection, by appointment, during normal business hours at the above address.

FOR FURTHER INFORMATION CONTACT: Lee Folliard, (503) 231-6179 or Chuck Wheeler (541) 957-3379.

SUPPLEMENTARY INFORMATION: On May 9, 2005, a document was published in the Federal Register (70 FR 24450) with an incorrect date for written comment submissions.

Need for Correction

The document stated written comments would be accepted for 30 days after the date of publication in the Federal Register. The date for accepting written comments should read 45 days after date of publication. Accordingly, the DATES section of the document is corrected to read as follows:

DATES:

Public scoping meetings are scheduled as follows:

1. May 24, 2005, 6-10 p.m.; Roseburg, OR.

2. May 25, 2005, 6-10 p.m.; North Bend, OR.

3. May 26, 2005, 6-10 p.m.; Salem, OR.

Written comments should be received on or before June 23, 2005.

Dated: March 17, 2005.
David J. Wesley,
Deputy Regional Director, Fish and Wildlife Service, Region 1, Portland, Oregon.

Dated: May 18, 2005.
Phil Williams,
Chief, Endangered Species Division, Office of Protected Resources, National Marine Fisheries Service.

[FR Doc. 05-10353 Filed 5-23-05; 8:45 am]

BILLING CODES 3510-22-S, 4310-55-S